FEDERAL DEPOSIT INSURANCE CORPORATION

Sunshine Act Meeting

Pursuant to the provisions of the “Government in the Sunshine Act” (5 U.S.C. 552b), notice is hereby given that the Federal Deposit Insurance Corporation's Board of Directors will meet in open session at 2:00 p.m. on Tuesday, April 8, 2014, to consider the following matters:

Summary Agenda: No substantive discussion of the following items is anticipated. These matters will be resolved with a single vote unless a member of the Board of Directors requests that an item be moved to the discussion agenda.

Disposition of minutes of previous Board of Directors' Meetings.

Memorandum and resolution re: Notice of Proposed Rulemaking on Regulatory Capital Rules: Regulatory Capital, Proposed Revisions to the Definition of Eligible Guarantee.

Memorandum and resolution re: Notice of Proposed Rulemaking to Make Certain FDIC Procedural Regulations Applicable to State Savings Associations and Rescind Corresponding Regulations Transferred from the Former Office of Thrift Supervision.

Memorandum and resolution re: Notice of Proposed Rulemaking Regarding Part 390 Subpart U—Securities of State Savings Associations and Part 335—Securities of Nonmember Insured Banks.

Memorandum and resolution re: Final Rule Regarding Restrictions on Sales of Assets of a Covered Financial Company by the Federal Deposit Insurance Corporation.

Summary reports, status reports, and reports of actions taken pursuant to authority delegated by the Board of Directors.

Discussion Agenda:

Memorandum and resolution re: Final Rule—Regulatory Capital Rules: Regulatory Capital, Enhanced Supplementary Leverage Ratio Standards for Certain Bank Holding Companies and their Subsidiary Insured Depository Institutions.

Memorandum and resolution re: Notice of Proposed Rulemaking to Implement Basel Committee Revisions to the Denominator Measure for the Supplementary Leverage Ratio.

Memorandum and resolution re: Final Rule—Implementation of Basel III and Related Amendments to the FDIC's Risk-Based and Leverage Capital Requirements and the Methodologies for Calculating Risk-Weighted Assets under the Standardized and Advanced Approaches.

Briefing re: Update of Projected Deposit Insurance Fund Losses, Income, and Reserve Ratios for the Restoration Plan.

The meeting will be held in the Board Room on the sixth floor of the FDIC Building located at 550 17th Street NW., Washington, DC.

This Board meeting will be Webcast live via the Internet and subsequently made available on-demand approximately one week after the event. Visit https://fdic.primetime.mediaplatform.com/#/channel/1232003497484/Board+Meetings to view the event. If you need any technical assistance, please visit our Video Help page at: http://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated: April 1, 2014.
Federal Deposit Insurance Corporation.
Robert E. Feldman,
Executive Secretary.

[FR Doc. 2014-07653 Filed 4-1-14; 11:15 am]

BILLING CODE P